OFFICE OF THE UNITED STATES TRADE REPRESENTATIVE

Notice of Request for Public Comment on the Andean Trade Preferences Act: Report to Congress

AGENCY: Office of the United States Trade Representative.

ACTION: Notice and solicitation of public comment.

SUMMARY: The Trade Policy Staff Committee (TPSC) is seeking the views of interested parties on the operation of the Andean Trade Preference Act, as amended (19 U.S.C. 3201 et seq.) (“the ATPA”). Section 203(f) as amended requires the President to submit a report to the Congress regarding the operation of the ATPA on or before January 31, 2001, following the ninth anniversary of the enactment of the ATPA. The TPSC invites written comments concerning the issues to be examined in preparing such a report, including the considerations described in subsections 203(c) and (d) of the ATPA.

DATES: Public comments are due at USTR by September 11, 2000.

ADDRESSES: Office of the U.S. Trade Representative, 600 17th Street NW., Room 523, Washington, DC 20508.

FOR FURTHER INFORMATION CONTACT: Bennett Harman, Deputy Assistant U.S. Trade Representative for Latin America, Office of the Western Hemisphere, Office of the United States Trade Representative, (202) 395-5190.

SUPPLEMENTARY INFORMATION: This report is the last one required of the Administration before the program's expiration on December 4, 2001. Renewal of the program will be considered in 2001. Interested parties are invited to submit comments on any aspect of the program's operation, including the status of beneficiary countries—Bolivia, Colombia, Ecuador, and Peru—under the criteria described in subsections 203(c) and (d) of the ATPA, 19 U.S.C. 3202(c) and (d). Issues to be examined in this report include: The program's effect on the volume and composition of trade and investment between the United States and the Andean beneficiary countries; its effect on the economic growth and development of the beneficiary countries; the extent to which the program has advanced narcotics eradication through sustainable alternative development efforts in coca-growing areas; and the degree to which the program has encouraged the trade and investment policies cited in the ATPA.

Written Notice

Persons submitting written comments should provide a statement in twenty copies, no later than 5 p.m., September 8, 2000, to Gloria Blue, Executive Secretary, TPSC, Office of the U.S. Trade Representative, Room 122, 600 17th Street, NW., Washington, DC 20508. Non-confidential information received will be available for public inspection by appointment, in the USTR Reading Room, Room 101, Monday through Friday, 10 a.m. to 12 noon and 1 p.m. to 4 p.m. For an appointment call Brenda Webb on 202-395-6186. All submissions must be in English and should conform to the information requirements of 15 CFR part 2003. Any business confidential material must be clearly marked as such on the cover letter or page and each succeeding page, and must be accompanied by a non-confidential summary thereof.

Peter F. Allgeier,
Associate U.S. Trade Representative for the Western Hemisphere.

[FR Doc. 00-19812 Filed 8-3-00; 8:45 am]

BILLING CODE 3190-01-M